COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and a service to be furnished by nonprofit agencies employing persons who are blind or have other severe disabilities.

DATES: Effective Date: 7/5/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 4/9/2010 (75 FR 18164-18165), the Committee for Purchase From People Who Are Blind or Severely Disabled published notice of proposed additions to the Procurement List.

After consideration of the material presented to it concerning capability of qualified nonprofit agencies to provide the products and a service and impact of the additions on the current or most recent contractors, the Committee has determined that the products and a service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and a service to the Government.

2. The action will result in authorizing small entities to furnish the products and a service to the Government.

3. There are no known regulatory alternatives which would accomplish the objectives of the Javits-Wagner-O'Day Act (41 U.S.C. 46-48c) in connection with the products and a service proposed for addition to the Procurement List.

End of Certification

Accordingly, the following products and service are added to the Procurement List:

Products

Label, Pressure Sensitive Recycled Copier

NSN: 7530-01-207-4363.

NSN: 7530-00-NIB-0902.

NSN: 7530-01-086-4518.

NPA: North Central Sight Services, Inc., Williamsport, PA.

Contracting Activity: Federal Acquisition Service, GSA/FSS OFC SUP CTR—Paper Products.

Coverage: A-List for the total government requirement as aggregated by the General Services Administration.

NSN: 7520-00-NIB-2101—Pen Set, Rosewood (Army Strong).

NSN: 7520-00-NIB-2102—Pen Set, Rosewood (Reserve).

NPA: Industries for the Blind, Inc., West Allis, WI.

Contracting Activity: DEPT OF THE ARMY, XR W6BB ACA KNOX.

Coverage: C-List for 100% of the requirements for the U.S. Army Recruiting Command as aggregated by the Mission and Installation Contracting Command, Fort Knox, KY.

Service

Service Type/Location: Administrative Services, 426 5th Avenue, Sheppard AFB, TX.

NPA: Work Services Corporation, Wichita Falls, TX.

Contracting Activity: Dept of the Air Force, FA3020 82 CONS LGC, Sheppard AFB, TX.

Barry S. Lineback,
Director, Business Operations.

[FR Doc. 2010-13473 Filed 6-3-10; 8:45 am]

BILLING CODE 6353-01-P